DEPARTMENT OF TRANSPORTATION

Federal Aviation Administration

14 CFR Part 39

[Docket No. FAA-2010-0614; Directorate Identifier 2010-NE-24-AD]

RIN 2120-AA64

Airworthiness Directives; Rolls-Royce Deutschland Ltd & Co KG Models BR700-710A1-10; BR700-710A2-20; and BR700-710C4-11 Turbofan Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Due to manufacturing problems of BR700-710 HP stage 1 and 2 turbine discs it was necessary to re-calculate the Declared Safe Cyclic Life (DSCL) for all BR700-710 HP turbine discs. The analysis concluded that it is required to reduce the approved life limits for the HP turbine disc part numbers that are listed in Table 1 and Table 2 of this AD (MCAI). Exceeding the revised approved life limits could potentially result in non-contained disc failure.

We are proposing this AD to prevent-failure of the high-pressure turbine (HPT) stage 1 and stage 2 discs, uncontained engine failure, and damage to the airplane.

DATES: We must receive comments on this proposed AD by October 7, 2010.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Rolls-Royce Deutschland Ltd & Co KG, Eschenweg 11, Dahlewitz, 15827 Blankenfelde-Mahlow, Germany, telephone: +49 (0) 33-7086-1883, fax: +49 (0) 33-7086-3276, for the service information identified in this proposed AD.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone (800) 647-5527) is the same as the Mail address provided in the ADDRESSES section. Comments will be available in the AD docket shortly after receipt.

FOR FURTHER INFORMATION CONTACT: Tara Chaidez, Aerospace Engineer, Engine Certification Office, FAA, Engine and Propeller Directorate, 12 New England Executive Park, Burlington, MA 01803; e-mail: tara.chaidez@faa.gov; telephone (781) 238-7773; fax (781) 238-7199.

SUPPLEMENTARY INFORMATION:

Comments Invited

We invite you to send any written relevant data, views, or arguments about this proposed AD. Send your comments to an address listed under the ADDRESSES section. Include “Docket No. FAA-2010-0614; Directorate Identifier 2010-NE-24-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, notified us that an unsafe condition may exist on Rolls-Royce Deutschland Ltd & Co KG Models BR700-710A1-10; BR700-710A2-20; and BR700-710C4-11 turbofan engines. The MCAI states:

Due to manufacturing problems of BR700-710 HP stage 1 and 2 turbine discs it was necessary to re-calculate the Declared Safe Cyclic Life (DSCL) for all BR700-710 HP turbine discs. The analysis concluded that it is required to reduce the approved life limits for the HP turbine disc part numbers that are listed in Table 1 and Table 2 of this AD (MCAI). Exceeding the revised approved life limits could potentially result in non-contained disc failure.

You may obtain further information by examining the MCAI in the AD docket.

FAA's Determination and Requirements of This Proposed AD

This product has been approved by the aviation authority of Germany and is approved for operation in the United States. Pursuant to our bilateral agreement with Germany, they have notified us of the unsafe condition described in the MCAI and service information referenced above. We are proposing this AD because we evaluated all information provided by EASA and determined the unsafe condition exists and is likely to exist or develop on other products of the same type design. This proposed AD would require replacing the HPT stage 1 or HPT stage 2 discs with serviceable discs at the DSCL as applicable, as listed in Table 1 or Table 2 of the proposed AD.

Costs of Compliance

Based on the service information, we estimate that this proposed AD would affect about 1,026 BR700-710 engines of U.S. registry. We also estimate that no additional labor cost will be incurred to replace the discs. The average labor rate is $85 per work-hour. Required parts would cost about $6,000 per disc. Based on these figures, we estimate the cost of the proposed AD on U.S. operators to be $6,156,000. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Rolls-Royce Deutschland Ltd & Co KG (formerly Rolls-Royce Deutschland GmbH, formerly BMW Rolls-Royce GmbH): Docket No. FAA-2010-0614; Directorate Identifier 2010-NE-24-AD.

Comments Due Date

(a) We must receive comments by October 7, 2010.

Affected ADs

(b) None.

Applicability

(c) This AD applies to Rolls-Royce Deutschland Ltd & Co KG models BR700-710A1-10, BR700-710A2-20, and BR700-710C4-11 turbofan engines with any of the high-pressure turbine (HPT) stage 1 and stage 2 discs installed as listed by part number (P/N) in Table 1 and Table 2 of this AD. These engines are installed on, but not limited to, Gulfstream model G-V and GV-SP airplanes, and Bombardier model BD-700-1A10 and BD-700-1A11 airplanes.

Table 1—Declared Safe Cyclic Life of Affected HPT Stage 1 Discs
HPT Stage 1 disc p/n | Engine model | Declared safe cyclic life (flight cycles)
BRR21215 | BR700-710A1-10 | 6,075
BRR21215 | BR700-710A2-20 | 5,950
BRR22005 | BR700-710A1-10 | 6,200
BRR22005 | BR700-710A2-20 | 6,200
BRR22006 | BR700-710A1-10 | 6,200
BRR22006 | BR700-710A2-20 | 6,200
BRR22007 | BR700-710A1-10 | 6,200
BRR22007 | BR700-710A2-20 | 6,200
BRR22358 | BR700-710A1-10 | 6,200
BRR22358 | BR700-710A2-20 | 6,200
BRR23864 | BR700-710A1-10 | 6,200
BRR23864 | BR700-710A2-20 | 6,200
BRR23884 | BR700-710A1-10 | 6,200
BRR23884 | BR700-710A2-20 | 6,200
BRR23885 | BR700-710A1-10 | 6,200
BRR23885 | BR700-710A2-20 | 6,200
BRR23952 | BR700-710A1-10 | 6,200
BRR23952 | BR700-710A2-20 | 6,200
BRR23952 | BR700-710C4-11 (Service Bulletin (SB) No. SB-BR700-72-101466 not incorporated) | 6,200
BRR23952 | BR700-710C4-11 (SB No. SB-BR700-72-101466 incorporated) | 3,800
BRR23953 | BR700-710A1-10 | 6,200
BRR23953 | BR700-710A2-20 | 6,200
BRR23953 | BR700-710C4-11 (SB No. SB-BR700-72-101466 not incorporated) | 6,200
BRR23953 | BR700-710C4-11 (SB No. SB-BR700-72-101466 incorporated) | 3,800
BRR23954 | BR700-710A1-10 | 6,200
BRR23954 | BR700-710A2-20 | 6,200

Table 2—Declared Safe Cyclic Life of Affected HPT Stage 2 Discs
HPT Stage 2 disc p/n | Engine model | Declared safe cyclic life (flight cycles)
BRR18291 | BR700-710A1-10 | 9,300
BRR21214 | BR700-710A1-10 | 9,600
BRR21214 | BR700-710A2-20 | 9,600
BRR22008 | BR700-710A1-10 | 10,500
BRR22008 | BR700-710A2-20 | 10,500
BRR22008 | BR700-710C4-11 (SB No. SB-BR700-72-101466 not incorporated) | 10,500
BRR22008 | BR700-710C4-11 (SB No. SB-BR700-72-101466 incorporated) | 3,700
BRR22009 | BR700-710A1-10 | 10,500
BRR22009 | BR700-710A2-20 | 10,500
BRR22009 | BR700-710C4-11 (SB No. SB-BR700-72-101466 not incorporated) | 10,500
BRR22009 | BR700-710C4-11 (SB No. SB-BR700-72-101466 incorporated) | 3,700
BRR22010 | BR700-710A1-10 | 10,500
BRR22010 | BR700-710A2-20 | 10,500
BRR22359 | BR700-710A1-10 | 10,500
BRR22359 | BR700-710A2-20 | 10,500

Reason

(d) This AD results from mandatory continuing airworthiness information (MCAI) issued by an aviation authority of another country to identify and correct an unsafe condition on an aviation product. The MCAI states:

Due to manufacturing problems of BR700-710 HP stage 1 and 2 turbine discs it was necessary to re-calculate the Declared Safe Cyclic Life (DSCL) for all BR700-710 HP turbine discs. The analysis concluded that it is required to reduce the approved life limits for the HP turbine disc part numbers that are listed in Table 1 and Table 2 of this AD (MCAI). Exceeding the revised approved life limits could potentially result in non-contained disc failure.

We are issuing this AD to prevent failure of the HPT stage 1 and stage 2 discs, uncontained engine failure, and damage to the airplane.

Actions and Compliance

(e) Unless already done, do the following actions.

(1) Within 30 days after the effective date of this AD, or upon accumulating the declared safe cyclic life indicated in Table 1 or Table 2 of this AD as applicable, whichever occurs later, initially replace the HPT stage 1 or HPT stage 2 discs with serviceable discs.

(2) Thereafter, upon accumulating the declared safe cyclic life indicated in Table 1 or Table 2 of this AD, as applicable, repetitively replace the HPT stage 1 or HPT stage 2 discs with serviceable discs.

FAA AD Differences

(f) None.

Alternative Methods of Compliance (AMOCs)

(g) The Manager, Engine Certification Office, FAA, has the authority to approve AMOCs for this AD, if requested using the procedures found in 14 CFR 39.19.

Related Information

(h) Refer to European Aviation Safety Agency AD 2010-0075, dated April 20, 2010, and AD 2010-0076, dated April 20, 2010, for related information.

(i) Refer to Rolls-Royce Deutschland Ltd & Co KG SB No. SB-BR700-72-A900492, dated February 12, 2010, and SB No. SB-BR700-72-A900497, dated February 12, 2010, for related information. Contact Rolls-Royce Deutschland Ltd & Co KG, Eschenweg 11, Dahlewitz, 15827 Blankenfelde-Mahlow, Germany, telephone: +49 (0) 33-7086-1883, fax: +49 (0) 33-7086-3276, for a copy of this service information.

(j) Contact Tara Chaidez, Aerospace Engineer, Engine Certification Office, FAA, Engine and Propeller Directorate, 12 New England Executive Park, Burlington, MA 01803; e-mail: tara.chaidez@faa.gov; telephone (781) 238-7773; fax (781) 238-7199, for more information about this AD.

Issued in Burlington, Massachusetts, on August 16, 2010.
Peter A. White,
Assistant Manager, Engine and Propeller Directorate, Aircraft Certification Service.

[FR Doc. 2010-20757 Filed 8-20-10; 8:45 am]

BILLING CODE 4910-13-P